DEPARTMENT OF TRANSPORTATION

Federal Railroad Administration

[Docket Number FRA-2013-0069]

Petition for Waiver of Compliance

In accordance with Part 211 of Title 49 of the Code of Federal Regulations (CFR), this document provides the public notice that by a document received on June 11, 2013, the Terminal Railroad Association of St. Louis (TRRA), has petitioned the Federal Railroad Administration (FRA) for a waiver of compliance from certain provisions of the Federal railroad safety regulations contained at 49 CFR Part 232, Brake System Safety Standards for Freight and Other Non-Passenger Trains and Equipment; End-of-Train Devices. FRA assigned the petition Docket Number FRA-2013-0069.

Specifically, TRRA seeks a permanent waiver of compliance from 49 CFR 232.215, Transfer train brake tests, for train BNSF BNORE when empty and departing the US Steel Granite City Works (the Works) located at Granite City, IL. Title 49 CFR 232.215 defines the brake test that shall be performed on trains that travel between a point of origin and a point of final destination not exceeding 20 miles. TRRA's reasons for its petition are the unsafe walking conditions at the Works' Tracks 27-31 and the potential of injury to TRRA employees. The condition cannot be corrected due to the large amount of ore pellets left after each train. Waiver of the transfer train brake test will prevent employees from having to walk in an unsafe area.

The BNSF BNORE train, once emptied, travels from the Works to a location between 22nd and 25th Streets, a distance of 2.95 miles over U.S. Steel industrial track, TRRA track, and Norfolk Southern Railway track.

TRRA therefore proposes an alternative compliance: When the train doubles up and departs the Works, the train's crew will perform an inspection mandated by 49 CFR 232.211, Class III brake tests—train line continuity inspection, and will perform a roll-by inspection. When the train is spotted to an outbound track between 22nd and 25th Streets, an inspection compliant with 49 CFR 232.205, Class I brake test—initial terminal inspection, will be performed.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 19, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Deputy Associate Administrator for Regulatory and Legislative Operations.

[FR Doc. 2013-18829 Filed 8-5-13; 8:45 am]

BILLING CODE 4910-06-P